DEPARTMENT OF COMMERCE

National Oceanic and Atmospheric Administration

50 CFR Part 226

[Docket Nos. 030716175-4327-03, 041123329-4329-01; I.D. Nos. 070303A, 110904F]

RIN 0648-AQ77, 0648-AO04

Endangered and Threatened Species; Extension of Public Comment Period on Proposed Critical Habitat Designations for West Coast Salmonids

AGENCY: National Marine Fisheries Service (NMFS), National Oceanic and Atmospheric Administration (NOAA), Commerce.

ACTION: Proposed rule; extension of public comment period.

SUMMARY: We, the National Marine Fisheries Service (NMFS), are extending the comment period on proposed critical habitat designations for 20 Evolutionarily Significant Units (ESUs) of Pacific salmon and O. mykiss (inclusive of anadromous steelhead and resident rainbow trout) listed under the Endangered Species Act of 1973, as amended (ESA). The proposed designations include habitat areas in California, Oregon, Washington, and Idaho. A recent court-approved Amendment to the Consent Decree, that established the schedule for completing these designations, extends the comment period until March 14, 2005, and the date to submit final rules until August 15, 2005. These extensions will allow the public additional time to provide information related to the proposed designations and will provide NMFS with the time needed to review, consider, and respond to comments. We are soliciting information and comments from the public on all aspects of the proposals, including information on the economic, national security, and other relevant impacts of the proposed designations.

DATES: Written comments are due by 5 p.m. Pacific Standard Time on March 14, 2005.

ADDRESSES: Comments pertaining to California ESUs must include reference to docket number [041123329-4329-01] and RIN number [0648-AO04]. Comments pertaining to ESUs in Washington, Oregon, or Idaho must include reference to docket number [030716175-4327-03] and RIN number [0648-AQ77]. You may submit comments by any of the following methods:

• E-mail: For California ESUs, send e-mail comments to critical habitat.swr@noaa.gov. For ESUs in Washington, Oregon, or Idaho, send e-mail comments to critical.habitat.nwr@noaa.gov. In the subject line of your e-mail please include the pertinent docket and RIN numbers specified above.

• Federal e-Rulemaking Portal: http://www.regulations.gov. Follow the instructions for submitting comments.

• Agency Web Site: http://ocio.nmfs.noaa.gov/ibrm-ssi/index.shtml. Follow the instructions for submitting comments at http://ocio.nmfs.noaa.gov/ibrm-ssi/process.shtml.

• Mail: For California ESUs, submit written comments and information to: Assistant Regional Administrator, Protected Resources Division, NMFS, 501 W. Ocean Blvd., Suite 4200, Long Beach, CA 90802-4213. For ESUs in Washington, Oregon, or Idaho, submit written comments and information to: Chief, NMFS, Protected Resources Division, 525 NE Oregon Street, Suite 500, Portland, OR 97232-2737. You may hand-deliver written comments to our offices during normal business hours at the addresses given above (although after February 18, 2005, the Portland address will change to 1201 NE Lloyd Blvd., Suite 1100, Portland, OR 97232).

• Fax: Submit fax comments to the NMFS Southwest Regional Office at 562-980-4027, or the NMFS Northwest Regional Office at 503-230-5441.

FOR FURTHER INFORMATION CONTACT: In California, contact Craig Wingert at the address above or at 562-980-4021. In Washington, Oregon, and Idaho, contact Steve Stone at the above address or at 503-231-2317. The proposed rules, maps, and other materials relating to these proposals can be found on the agency's Southwest Region website at http://swr.nmfs.noaa.gov/salmon.htm and the Northwest Region website at http://www.nwr.noaa.gov/1salmon/salmesa/crithab/CHsite.htm.

SUPPLEMENTARY INFORMATION:

Background

On December 10 and 14, 2004, NMFS published separate critical habitat proposed rules addressing 20 ESUs of Pacific salmon and O. mykiss (inclusive of anadromous steelhead and resident rainbow trout) listed under the ESA. The first proposed rule (69 FR 71880, December 10, 2004) addressed 7 ESUs in California and announced a public comment period extending through February 8, 2005. The second proposed rule (69 FR 74572, December 14, 2004) addressed 13 ESUs in Washington, Oregon, and Idaho, and announced a public comment period extending through February 14, 2005. The timeline for completion of these proposed rules was established pursuant to litigation between NMFS and the Pacific Coast Federation of Fishermen's Associations, Institute for Fisheries Resources, the Center for Biological Diversity, the Oregon Natural Resources Council, the Pacific Rivers Council, and the Environmental Protection Information Center (PCFFA et al.) and are subject to a Consent Decree and Stipulated Order of Dismissal (Consent Decree) approved by the D.C. District Court.

We received several requests, including a request from PCFFA et al., to extend the public comment period. We recently submitted to the D.C. District Court a joint request with PCFFA et al. to extend the comment period and to modify the schedule for submission of final rules designating critical habitat for the 20 ESUs to the Federal Register established in the Consent Decree. The court approved the joint request on January 26, 2005. Pursuant to that approval we are extending the deadline for accepting public comments on both proposed rules until March 14, 2005. Also, on or before August 15, 2005, we will complete both rulemakings by submitting to the Federal Register for publication the final rules designating critical habitat for those of the 20 ESUs that are included on the lists of threatened and endangered species as of August 15, 2005. These extensions will allow the public additional time to provide information related to the proposed designations and will provide us with the time needed to review, consider, and respond to comments.

Authority: 16 U.S.C. 1531 et seq.

Dated: January 1, 2005.
William T. Hogarth,
Assistant Administrator, National Marine Fisheries Service.

[FR Doc. 05-2292 Filed 2-4-05; 8:45 am]

BILLING CODE 3510-22-S